DEPARTMENT OF HEALTH AND HUMAN SERVICES

Centers for Disease Control and Prevention

[Announcement Number 01094]

Professional Education on Prostate Cancer: Primary Health Care Providers; Notice of Availability of Funds; Amendment

A notice announcing the availability of Fiscal Year 2001 funds to fund a competing cooperative agreement program for private and public nonprofit medical organizations or associations which was published in the Federal Register on May 22, 2001 (Vol. 66, No. 99, Pages 28174-28177).

The notice is amended as follows:

On page 28176, Second Column, under Section F. Submission and Deadline, the submission due date should read on or before June 29, 2001.

Dated: June 15, 2001.
Sandra R. Manning,
Acting Director, Procurement and Grants Office, Centers for Disease Control and Prevention (CDC).

[FR Doc. 01-15596 Filed 6-20-01; 8:45 am]

BILLING CODE 4163-18-P